DEPARTMENT OF COMMERCE

National Oceanic and Atmospheric Administration

[I.D. 042707A]

Marine Mammals; File No. 486-1919

AGENCY: National Marine Fisheries Service (NMFS), National Oceanic and Atmospheric Administration (NOAA), Commerce.

ACTION: Notice; Denial of Permit.

SUMMARY: Notice is hereby given that a request for a permit to conduct scientific research on marine mammals, submitted by Brent Stewart, Ph.D, J.D, Hubbs-SeaWorld Research Institute, 2595 Ingraham Street, San Diego, CA 92109, has been denied.

ADDRESSES: The application and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Kate Swails or Tammy Adams, (301)713-2289.

SUPPLEMENTARY INFORMATION: On May 15, 2007, a notice was published in the Federal Register (72 FR 27291) that an application had been filed by the above named individual. The requested permit has been denied subject to the provisions of the Marine Mammal Protection Act of 1972 (16 U.S.C. 1361 et seq.), and the regulations governing the taking and importing of marine mammals (50 CFR part 216).

Dated: July 23, 2007.
P. Michael Payne,
Chief, Permits, Conservation and Education Division, Office of Protected Resources, National Marine Fisheries Service.

[FR Doc. E7-14588 Filed 7-26-07; 8:45 am]

BILLING CODE 3510-22-S